BROADCASTING BOARD OF GOVERNORS

Sunshine Act Meeting

Date and Time: Wednesday, October 13, 2010, 9:30 a.m. (local time), 3:30 a.m. (EDT).

Place: Radio Free Europe/Radio Liberty Headquarters, Editorial Room 4-34, Vinohradska 159A, 100 00 Prague 10, Czech Republic.

Subject: Notice of Meeting of the Broadcasting Board of Governors.

Summary: The Broadcasting Board of Governors (BBG) will be meeting at the time and location listed above. The BBG will be considering Board By-Laws, a Calendar Year 2011 meeting schedule, Strategy and Budget Committee recommendations, and a Governor's trip report. The meeting is open to the public—but due to space limitations via Webcast only—and will be streamed on the BBG's Web site at http://www.bbg.gov. The meeting will also be made available on the BBG's Web site for on-demand viewing by 9:30 a.m. EDT.

Contact Person for More Information: Persons interested in obtaining more information should contact Paul Kollmer-Dorsey at (202) 203-4545.

Paul Kollmer-Dorsey,
Deputy General Counsel.

[FR Doc. 2010-25473 Filed 10-5-10; 4:15 pm]

BILLING CODE 8610-01-P